DEPARTMENT OF AGRICULTURE

Submission for OMB Review; Comment Request

February 14, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Chief Economist

Title: Guidelines for Designating Biobased Products for Federal Procurement.

OMB Control Number: 0503-0011.

Summary of Collection: Section 9002 of the Farm Security and Rural Investment Act (FSRIA) of 2002 provides for a preferred procurement program under which Federal agencies are required to purchase biobased products, with certain exceptions. Items (which are generic groupings of products) are designated by rulemaking for preferred procurement. To qualify items for procurement under this program, the statute requires that the Secretary of Agriculture consider information on the availability of items, the economic and technological feasibility of using such items and the life cycle costs of using such items. In addition, the Secretary is required to provide information on designated items to Federal agencies about the availability, relative price, performance, and environmental and public health benefits of such items and where appropriate shall recommend the level of biobased material to be contained in the procured product.

Need and Use of the Information: The Office of Energy Policy and New Uses (OEPNU) and the Center for Industrial Research and Service at Iowa State University will interact with manufacturers and venders to gather such information and material for testing, as may be required for designation of items for preferred procurement by Federal agencies. The information collected will be gathered using a variety of methods, including face to face visits with a manufacturer or vendor, submission by manufacturers and vendors of information electronically to OEPNU, and survey instruments filled out by manufacturers and vendors and submitted to OEPNU.

Description of Respondents: Business or other for-profit.

Number of Respondents: 138.

Frequency of Responses: Reporting: Other (once).

Total Burden Hours: 14,387.

Ruth Brown,
Departmental Information Collection Clearance Officer.

[FR Doc. E8-3168 Filed 2-20-08; 8:45 am]

BILLING CODE 3410-GL-P